INTERNATIONAL TRADE COMMISSION

[Investigation Nos. 701-TA-458 and 731-TA-1154 (Preliminary)]

Certain Kitchen Appliance Shelving and Racks From China

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured by reason of imports from China of certain kitchen appliance shelving and racks, provided for in subheadings 7321.90.50, 7321.90.60, 8418.99.80, and 8516.90.80 of the Harmonized Tariff Schedule of the United States, that are alleged to be subsidized by the Government of China and sold in the United States at less than fair value (LTFV).²

¹ The record is defined in sec. 207.2(f) of the Commission's Rules of Practice and Procedure (19 CFR 207.2(f)).

² Commissioner Deanna Tanner Okun recused herself to avoid any conflict of interest or appearance of a conflict.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in these investigations under sections 703(b) and 733(b) of the Act, or, if the preliminary determinations are negative, upon notice of affirmative final determinations in these investigations under sections 705(a) and 735(a) of the Act. Parties that filed entries of appearance in the preliminary phase of the investigations need not enter a separate appearance for the final phase of the investigations. Industrial users, and, if the merchandise under investigations is sold at the retail level, representative consumer organizations have the right to appear as parties in Commission antidumping and countervailing duty investigations. The Secretary will prepare a public service list containing the names and addresses of all persons, or their representatives, who are parties to the investigations.

Background

On July 31, 2008, a petition was filed with the Commission and Commerce by Nashville Wire Products Inc., Nashville, TN, SSW Holding Company, Inc., Elizabethtown, KY, and the United Steel, Paper and Forestry, Rubber, Manufacturing, Energy, Allied-Industrial and Service Workers International Union, and the International Association of Machinists and Aerospace Workers, District Loge 6, Clinton, IA., alleging that an industry in the United States is materially injured and threatened with material injury by reason of imports of certain kitchen appliance shelving and racks from China allegedly subsidized by the government of China and sold at less than fair value. Accordingly, effective July 31, 2008, the Commission instituted countervailing duty investigation No. 701-TA-458 (Preliminary) and antidumping duty investigation No. 731-TA-1154 (Preliminary).

Notice of the institution of the Commission's investigations and of a public conference to be held in connection therewith was given by posting copies of the notice in the Office of the Secretary, U.S. International Trade Commission, Washington, DC, and by publishing the notice in the Federal Register of August 7, 2008 (73 FR 46033). The conference was held in Washington, DC, on August 21, 2008, and all persons who requested the opportunity were permitted to appear in person or by counsel.

The Commission transmitted its determinations in these investigations to the Secretary of Commerce on September 15, 2008. The views of the Commission are contained in USITC Publication 4035 (September 2008), entitled Certain Kitchen Appliance Shelving and Racks from China: Investigation Nos. 701-TA-458 and 731-TA-1154 (Preliminary).

By order of the Commission.
Issued: September 18, 2008.
Marilyn R. Abbott,
Secretary to the Commission.

[FR Doc. E8-22301 Filed 9-23-08; 8:45 am]

BILLING CODE 7020-02-P